DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of December 17, 2020, has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Yavapai County, Arizona and Incorporated Areas
Docket No.: FEMA-B-1957
Unincorporated Areas of Yavapai County | Yavapai County Flood Control District Office, 1120 Commerce Drive, Prescott, AZ 86305.
Butler County, Iowa and Incorporated Areas
Docket No.: FEMA-B-1933
City of Allison | City Hall, 410 North Main Street, Allison, IA 50602.
City of Aplington | City Hall, 409 10th Street, Aplington, IA 50604.
City of Aredale | City Hall, 102 East Main Street, Aredale, IA 50605.
City of Bristow | City Hall, 716-A West Street, Bristow, IA 50611.
City of Clarksville | City Hall, Maintenance, 115 West Superior Street, Clarksville, IA 50619.
City of Dumont | City Hall, 625 1st Street, Dumont, IA 50625.
City of Greene | City Hall, 202 West South Street, Greene, IA 50636.
City of New Hartford | City Hall, 503 Packwaukee Street, New Hartford, IA 50660.
City of Parkersburg | City Hall, 608 Highway 57, Parkersburg, IA 50665.
City of Shell Rock | City Hall, 802 North Public Road, Shell Rock, IA 50670.
Unincorporated Areas of Butler County | Butler County Zoning Office, 428 6th Street, Allison, IA 50602.
O'Brien County, Iowa and Incorporated Areas
Docket No.: FEMA-B-1945S
City of Calumet | City Hall, 113 West 2nd Street, Calumet, IA 51009.
City of Hartley | City Hall, 11 South Central Avenue, Hartley, IA 51346.
City of Paullina | City Hall, 127 South Main Street, Paullina, IA 51046.
City of Primghar | City Hall, 160 South Hayes Avenue, Primghar, IA 51245.
City of Sanborn | City Hall, 102 Main Street, Sanborn, IA 51248.
City of Sheldon | City Hall, 416 9th Street, Sheldon, IA 51201.
City of Sutherland | City Hall, 110 Ash Street, Sutherland, IA 51058.
Unincorporated Areas of O'Brien County | O'Brien County Courthouse, 155 South Hayes Avenue, Primghar, IA 51245.
Lafayette County, Wisconsin and Incorporated Areas
Docket No.: FEMA-B-1932
City of Darlington | City Hall, 627 Main Street, Darlington, WI 53530.
City of Shullsburg | City Hall, 190 North Judgement Street, Shullsburg, WI 53586.
Unincorporated Areas of Lafayette County | Lafayette County Courthouse, 626 Main Street, Darlington, WI 53530.
Village of Argyle | Village Hall, 401 East Milwaukee Street, Argyle, WI 53504.
Village of Belmont | Village Hall, 222 South Mound Avenue, Belmont, WI 53510.
Village of Benton | Village Hall, 244 Ridge Avenue, Benton, WI 53803.
Village of Blanchardville | Village Hall, 208 Mason Street, Blanchardville, WI 53516.
Village of Gratiot | Village Hall, 5840 Main Street, Gratiot, WI 53541.
Village of South Wayne | Village Hall, 107 East Center Street, South Wayne, WI 53587.

[FR Doc. 2020-18419 Filed 8-20-20; 8:45 am]

BILLING CODE 9110-12-P